DEPARTMENT OF COMMERCE

National Oceanic and Atmospheric Administration

[RTID 0648-XC647]

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold two virtual public scoping meetings pertaining to Amendment 46 to the Fishery Management Plan (FMP) for Snapper Grouper Resources in the South Atlantic Region. This amendment would establish a permit and education requirement for the private recreational component of the snapper grouper fishery.

DATES: The scoping sessions will take place via webinar January 30, 2023 and February 6, 2023, beginning at 6 p.m., Eastern. See SUPPLEMENTARY INFORMATION.

ADDRESSES:

Meeting addresses: The scoping meetings will be held via webinar. The webinars are open to members of the public. Information, including a link to webinar registration will be posted on the Council's website at: https://safmc.net/public-hearings-and-scoping/ as it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Scoping documents, an online public comment form, and other materials will be posted to the Council's website at https://safmc.net/public-hearings-and-scoping/ as they become available. Written comments should be addressed to John Carmichael, Executive Director, SAFMC, 4055 Faber Place Drive, Suite 201, N Charleston, SC 29405. Written comments must be received by February 10, 2023 by 5 p.m. in order to be included in the scoping record for the amendment. During the scoping meetings Council staff will provide an overview of actions being considered in the amendment. Staff will answer clarifying questions on the presented information and the proposed actions. Following the presentation and questions, the public will have the opportunity to provide comments on the amendment.

Amendment 46 to the Snapper Grouper FMP

The Council is currently considering establishing a permit requirement for the private recreational component of the snapper grouper fishery. The Council is considering permitting options that would apply on a vessel or angler basis. In conjunction with establishing a permit, the Council is considering establishing an education requirement to obtain a permit. This education requirement may cover topics such as basic regulations, species identification, species found within the snapper grouper complex, and best fishing practices.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: January 6, 2023.
Rey Israel Marquez,
Acting Deputy Director, Office of Sustainable Fisheries, National Marine Fisheries Service.

[FR Doc. 2023-00392 Filed 1-10-23; 8:45 am]

BILLING CODE 3510-22-P